DEPARTMENT OF HOMELAND SECURITY

[Docket No. DHS-2012-0057]

Chemical Facility Anti-Terrorism Standards (CFATS) Chemical-Terrorism Vulnerability Information (CVI)

AGENCY: National Protection and Programs Directorate, DHS.

ACTION: 30-day notice and request for comments; Extension of Information Collection Request: 1670-0015.

SUMMARY: The Department of Homeland Security (DHS), National Protection and Programs Directorate (NPPD), Office of Infrastructure Protection (IP), Infrastructure Security Compliance Division (ISCD) will submit the following Information Collection Request (ICR) to the Office of Management and Budget (OMB) for review and clearance in accordance with the Paperwork Reduction Act of 1995 (Pub. L. 104-13, 44 U.S.C. Chapter 35). The Department previously published this ICR in the Federal Register on December 17, 2012, for a 60-day public comment period.¹ In this notice, NPPD is responding to one relevant comment that was responsive to different notice, also published in the Federal Register on December 17, 2012 that solicited comments on a related Information Collection Request.² This notice is also soliciting comments concerning the Information Collection Request, Chemical Facility Anti-Terrorism Standards (CFATS) Chemical-terrorism Vulnerability Information (CVI) for an additional 30 days for public comments.

¹ See 77 FR 74685. The 60-day Federal Register notice for IC 1670-0015 which solicited comments for 60 days may be found at https://federalregister.gov/a/2012-30316.

² The comment was submitted under docket # DHS-2012-0059 and provided comment not only on this information collection request (i.e., 1670-0015), but also on ICR 1670-0007 and ICR 1670-0014. The comment may be viewed at http://www.regulations.gov/#!documentDetail;D=DHS-2012-0059-0002.

DATES: Comments are encouraged and will be accepted until April 17, 2013. This process is conducted in accordance with 5 CFR 1320.10.

ADDRESSES: Interested persons are invited to submit written comments on the proposed information collection to the Office of Information and Regulatory Affairs, OMB. Comments should be addressed to OMB Desk Officer, Department of Homeland Security, National Protection and Programs Directorate. Comments must be identified by docket number DHS-2012-0057 and may be submitted by one of the following methods:

○ Federal eRulemaking Portal: http://www.regulations.gov.

○ Email: oira_submission@omb.eop.gov. Include the docket number in the subject line of the message.

○ Fax: (202) 395-5806.

Instructions: All submissions received must include the words “Department of Homeland Security” and the docket number for this action. Comments received will be posted without alteration at http://www.regulations.gov, including any personal information provided. Comments that include trade secrets, confidential commercial or financial information, CVI, Sensitive Security Information (SSI), or Protected Critical Infrastructure Information (PCII) should not be submitted to the public regulatory docket. Please submit such comments separately from other comments in response to this notice. Comments containing trade secrets, confidential commercial or financial information, CVI, SSI, or PCII should be appropriately marked and submitted by mail to the Office of Information and Regulatory Affairs, OMB. Comments should be addressed to OMB Desk Officer, Department of Homeland Security, National Protection and Programs Directorate. Comments must be identified by docket number DHS-2012-0057.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: CFATS Program Manager, DHS/NPPD/IP/ISCD, CFATS@hq.dhs.gov.

SUPPLEMENTARY INFORMATION: Section 550 of the Homeland Security Appropriations Act of 2007, Public Law 109-295, provides DHS with the authority to regulate the security of high-risk chemical facilities. On April 9, 2007, the Department issued an Interim Final Rule (IFR), implementing this statutory mandate at 72 FR 17688. Section 550 of the Homeland Security Appropriations Act of 2007 requires a risk-based approach to security.

CFATS is the Department's regulations under Section 550 governing security at high-risk chemical facilities. See 6 CFR part 27. CFATS represents a national-level effort to minimize terrorism risk to such facilities. Its design and implementation balance maintaining economic vitality with securing facilities and their surrounding communities. In collaboration with the private sector and other stakeholders, the Department designed the regulations to take advantage of protective measures already in place and to allow facilities to employ a wide range of tailored measures to satisfy the regulations' Risk-Based Performance Standards.

In 6 CFR 27.400, CFATS also establishes the requirements that covered persons must follow to safeguard certain documents and other information developed under the regulations. This information is identified as “Chemical-terrorism Vulnerability Information” (CVI) and by law receives protection from public disclosure and misuse. The instruments within this collection will be used to manage the CVI program in support of CFATS.

Response to Comment Submitted During 60-Day Comment Period: The Department received a comment suggesting that in the 60-day notice, the Department incorrectly calculated the burden estimates associated with the instrument “Chemical-terrorism Vulnerability Information Tracking Log.” The commenter assumed that the number of responses per respondent for this instrument was one. In fact, the Department estimated in the current Information Collection, which expires on March 31, 2013, that each respondent will on average respond 12 times. This assumption was carried over into the burden estimates used by the Department in the 60-day notice but not made explicit. The total annual burden for this instrument is calculated as follows [0.0833 hours (five minutes) × 30,000 respondents × 12 responses per respondent], which equals 29,988 hours. The rounded estimate is 30,000 hours. The Department did not revise the burden estimates for this instrument.

Therefore, for this instrument and the other instruments in this 30-day notice the Department will continue to rely on the analysis and resulting burden estimates in the 60-day notice.

Analysis

Agency: Department of Homeland Security, National Protection and Programs Directorate, Office of Infrastructure Protection, Infrastructure Security Compliance Division.

Title: Chemical Facility Anti-Terrorism Standards (CFATS) Chemical-terrorism Vulnerability Information (CVI).

OMB Number: 1670-0015.

Instrument: Chemical-terrorism Vulnerability Information Authorization.

Frequency: On occasion.

Affected Public: Business or other for-profit.

Number of Respondents: 30,000 respondents (rounded estimate).

Estimated Time per Respondent: One hour.

Total Burden Hours: 30,000 annual burden hours.

Total Burden Cost (capital/startup): $0.

Total Recordkeeping Burden: $0.

Total Burden Cost (operating/maintaining): $2,580,000.

Instrument: Determination of Chemical-terrorism Vulnerability Information (CVI).

Frequency: On occasion.

Affected Public: Business or other for-profit.

Number of Respondents: 300 respondents (rounded estimate).

Estimated Time per Respondent: 0.25 hours.

Total Burden Hours: 75 annual burden hours.

Total Burden Cost (capital/startup): $0.

Total Recordkeeping Burden: $0.

Total Burden Cost (operating/maintaining): $6,450.

Instrument: Determination of a “Need to Know” by a Public Official.

Frequency: On occasion.

Affected Public: Business or other for-profit.

Number of Respondents: 14,200 respondents (rounded estimate).

Estimated Time per Respondent: 0.25 hours.

Total Burden Hours: 3,550 annual burden hours.

Total Burden Cost (capital/startup): $0.

Total Recordkeeping Burden: $0.

Total Burden Cost (operating/maintaining): $305,300.

Instrument: Disclosure of Chemical-terrorism Vulnerability Information (CVI) Information.

Frequency: On occasion.

Affected Public: Business or other for-profit.

Number of Respondents: 300 respondents (rounded estimate).

Estimated Time per Respondent: 0.25 hours.

Total Burden Hours: 75 annual burden hours.

Total Burden Cost (capital/startup): $0.

Total Recordkeeping Burden: $0.

Total Burden Cost (operating/maintaining): $6,450.

Instrument: Notification of Emergency or Exigent Circumstances.

Frequency: On occasion.

Affected Public: Business or other for-profit.

Number of Respondents: 300 respondents (rounded estimate).

Estimated Time per Respondent: 0.25 hours.

Total Burden Hours: 75 annual burden hours.

Total Burden Cost (capital/startup): $0.

Total Recordkeeping Burden: $0.

Total Burden Cost (operating/maintaining): $6,450.

Instrument: Tracking Log for Chemical-terrorism Vulnerability Information (CVI) Received.

Frequency: On occasion.

Affected Public: Business or other for-profit.

Number of Respondents: 30,000 respondents (rounded estimate).

Estimated Time per Respondent: 0.0833 hours (5 minutes).

Total Burden Hours: 30,000 annual burden hours.

Total Burden Cost (capital/startup): $0.

Total Recordkeeping Burden: $0.

Total Burden Cost (operating/maintaining): $2,580,000.

Dated: March 11, 2013.
Michael Butcher,
Acting Chief Information Officer, National Protection and Programs Directorate, Department of Homeland Security.

[FR Doc. 2013-06096 Filed 3-15-13; 8:45 am]

BILLING CODE 9110-9P-P